NATIONAL CREDIT UNION ADMINISTRATION

Notice of Change in the Meeting; Sunshine Act

The National Credit Union Administration Board determined that its business required the cancellation of the previously announced open meeting Federal Register, Vol. 71, No. 98, page 29356, May 22, 2006) scheduled for Thursday, May 25, 2006 at 10 a.m.

It has also been determined that it will be necessary to change the time of the previously announced closed meeting (Federal Register, Vol. 71, No. 98, page 29356, May 22, 2006) scheduled for Thursday, May 25, 2006 at 11:15 a.m. The meeting will now be held at 10 a.m.

Earlier announcement of these changes was not possible.

FOR FURTHER INFORMATION CONTACT: Mary Rupp, Secretary of the Board, telephone (703) 518-6304.

Mary Rupp,
Secretary of the Board.

[FR Doc. 06-4906 Filed 5-24-06; 9:43 am]

BILLING CODE 7535-01-M